DEPARTMENT OF THE INTERIOR

Fish and Wildlife Service

[FWS-R8-ES-2008-N00134; 81430-1112-0000-F2]

Proposed Low Effect Habitat Conservation Plan for the Maintenance and Operations on the Calnev 8-Inch and 14-Inch Pipelines, Cajon and Lytle Creek Wash, San Bernardino County, CA

AGENCY: Fish and Wildlife Service, Interior.

ACTION: Notice of availability.

SUMMARY: Calnev Pipeline Company LLC (applicant) has applied to the U.S. Fish and Wildlife Service (Service) for a 5-year incidental take permit for one covered species pursuant to section 10(a)(1)(B) of the Endangered Species Act of 1973, as amended (Act). The application addresses the potential for “take” of the endangered San Bernardino kangaroo rat (Dipodomys Merriami parvus) associated with the proposed pipeline inspection and repair projects in the City of Rialto and unincorporated San Bernardino County, California. A conservation program to minimize and mitigate for the project activities would be implemented as described in the proposed Maintenance and Operations on the Calnev 8-inch and 14-inch Pipelines, Cajon and Lytle Creek Wash, San Bernardino County, California Habitat Conservation Plan (proposed HCP), which would be implemented by the applicant.

We are requesting comments on the permit application and on the preliminary determination that the proposed HCP qualifies as a “Low-effect” Habitat Conservation Plan, eligible for a categorical exclusion under the National Environmental Policy Act (NEPA) of 1969, as amended. The basis for this determination is discussed in the Environmental Action Statement (EAS) and the associated Low Effect Screening Form, which are also available for public review.

DATES: Written comments should be received on or before June 30, 2008.

ADDRESSES: Comments should be addressed to the Field Supervisor, Fish and Wildlife Service, Carlsbad Fish and Wildlife Office, 6010 Hidden Valley Road, Carlsbad, California 92011. Written comments may be sent by facsimile to (760) 918-0638.

FOR FURTHER INFORMATION CONTACT: Ms. Karen Goebel, Assistant Field Supervisor, Carlsbad Fish and Wildlife Office (see ADDRESSES); telephone: (760) 431-9440.

SUPPLEMENTARY INFORMATION:

Availability of Documents

Individuals wishing copies of the application, proposed HCP, and EAS should immediately contact the Service by telephone at (760) 431-9440 or by letter to the Carlsbad Fish and Wildlife Office. Copies of the proposed HCP and EAS also are available for public inspection during regular business hours at the Carlsbad Fish and Wildlife Office [see ADDRESSES].

Background

Section 9 of the Act and its implementing Federal regulations prohibit the take of animal species listed as endangered or threatened. Take is defined under the Act as to harass, harm, pursue, hunt, shoot, wound, kill, trap, capture or collect listed animal species, or attempt to engage in such conduct (16 U.S.C. 1538). However, under section 10(a) of the Act, the Service may issue permits to authorize incidental take of listed species. “Incidental take” is defined by the Act as take that is incidental to, and not the purpose of, carrying out an otherwise lawful activity. Regulations governing incidental take permits for threatened and endangered species, respectively, are found in the Code of Federal Regulations at 50 CFR 17.22 and 50 CFR 17.32.

The applicant is seeking a permit for take of the San Bernardino kangaroo rat during the life of the permit. This species is referred to as the “SBKR” in the proposed HCP. The SBKR is restricted western San Bernardino and Riverside counties.

The applicant proposes to perform routine inspection and repair work along 8-inch and 14-inch petroleum product pipelines within the Lytle and Cajon Creek Wash in the City of Rialto and unincorporated San Bernardino County, California. The purpose of the project is to ensure safe and effective transfer of petroleum products within these pipelines. The applicant proposes to expose, inspect and repair pipelines as necessary to ensure safe and effective operations. Each dig will impact approximately 0.02 acre of land, and this permit would authorize a maximum of 0.5 acre of impact in total. We anticipate that some SBKR may be lost within the 0.5 acre of SBKR occupied habitat. The project is within designated critical habitat for the SBKR.

The applicant proposes to minimize and mitigate the effects to the SBKR associated with the covered activities by fully implementing the HCP. The purpose of the proposed HCP's conservation program is to promote the biological conservation of the SBKR. The HCP includes measures to minimize impacts to SBKR by containing the project footprint, minimizing activities that may directly impact individual SBKR, and promoting recovery of impacted habitat. Impacts would be confined to previously impacted areas, and exposed areas would be replaced with the original soils and associated seed bank. The applicant proposes to mitigate impacts to the SBKR through purchase of 1 credit within the Cajon Creek Conservation Bank in San Bernardino County, California. For each individual repair project, the applicant would subtract from the credit at a 2:1 ratio such that no more than 0.5 acre of impact would be authorized by this permit.

The Proposed Action consists of the issuance of an incidental take permit and implementation of the proposed HCP, which includes measures to minimize and mitigate impacts of the project on the SBKR. One alternative to the taking of the listed species under the Proposed Action is considered in the proposed HCP. Under the No Action Alternative, no permit would be issued, and no maintenance or conservation would occur. This Alternative was not chosen because it would result in no repairs or necessary maintenance to existing pipelines, which would increase the risk of impacts to the public, property, and environment.

The Service has made a preliminary determination that approval of the proposed HCP qualifies as a categorical exclusion under NEPA, as provided by the Department of the Interior Manual (516 DM 2 Appendix 1 and 516 DM 6 Appendix 1) and as a “low-effect” plan as defined by the Habitat Conservation Planning Handbook (November 1996). Determination of Low-effect Habitat Conservation Plans is based on the following three criteria: (1) Implementation of the proposed HCP would result in minor or negligible effects on federally listed, proposed, and candidate species and their habitats; (2) Implementation of the proposed HCP would result in minor or negligible effects on other environmental values or resources; and (3) Impacts of the proposed HCP, considered together with the impacts of other past, present and reasonably foreseeable similarly situated projects, would not result, over time, in cumulative effects to environmental values or resources which would be considered significant.

Based upon this preliminary determination, we do not intend to prepare further NEPA documentation. We will consider public comments in making the final determination on whether to prepare such additional documentation.

Before including your address, phone number, e-mail address, or other personal identifying information in your comment, you should be aware that your entire comment—including your personal identifying information—may be made publicly available at any time. While you can ask us in your comment to withhold your personal identifying information from public review, we cannot guarantee that we will be able to do so.

This notice is provided pursuant to section 10(c) of the Act. We will evaluate the permit application, the proposed HCP, and comments submitted thereon to determine whether the application meets the requirements of section 10(a) of the Act. If the requirements are met, we will issue a permit to Calnev Pipeline Company, LLC for the incidental take of the San Bernardino kangaroo rat from petroleum pipeline repair and maintenance in the City of Rialto and unincorporated San Bernardino County, California.

Dated: May 21, 2008.
Jim A. Bartel,
Field Supervisor, Carlsbad Fish and Wildlife Office, Carlsbad, California.

[FR Doc. E8-11939 Filed 5-28-08; 8:45 am]

BILLING CODE 4310-55-P